DEPARTMENT OF ENERGY

Federal Energy Regulatory Commission

Combined Notice of Filings # 1

Take notice that the Commission received the following electric corporate filings:

Docket Numbers: EC16-89-000.

Applicants: FirstLight Hydro Generating Company, FirstLight Power Resources Management, LLC.

Description: Application for section 203 Authorization of FirstLight Hydro Generating Company and FirstLight Power Resources Management, LLC.

Filed Date: 3/17/16.

Accession Number: 20160317-5182.

Comments Due: 5 p.m. ET 4/7/16.

Take notice that the Commission received the following electric rate filings:

Docket Numbers: ER11-4625-002; ER10-2861-001; ER13-2169-001; ER10-2862-002; ER11-3634-002; ER13-1504-002; ER10-2866-001; ER10-2867-002.

Applicants: Colton Power L.P., Fountain Valley Power, LLC, Goal Line L.P., Harbor Cogeneration Company, LLC, KES Kingsburg, L.P., SWG Arapahoe, LLC, SWG Colorado, LLC, Valencia Power, LLC.

Description: Notice of Change in Status of the Southwest Generation Operating Company, LLC public utility subsidiaries.

Filed Date: 3/17/16.

Accession Number: 20160317-5207.

Comments Due: 5 p.m. ET 4/7/16.

Docket Numbers: ER12-2511-007.

Applicants: C.P. Crane LLC.

Description: Notice of Change in Status of C.P. Crane LLC.

Filed Date: 3/17/16

Accession Number: 20160317-5187.

Comments Due: 5 p.m. ET 4/7/16.

Docket Numbers: ER15-953-000.

Applicants: Arkansas Electric Cooperative Corp.

Description: Midcontinent Independent System Operator, Inc. submits tariff filing per 35.19a(b): Refund Report to be effective N/A.

Filed Date: 3/18/16.

Accession Number: 20160318-5089.

Comments Due: 5 p.m. ET 4/8/16.

Docket Numbers: ER16-647-001.

Applicants: Otter Tail Power Company.

Description: Compliance filing: Compliance Filing Regarding Service Agreement with CPEC Under the CASOT to be effective 1/1/2016.

Filed Date: 3/18/16.

Accession Number: 20160318-5101.

Comments Due: 5 p.m. ET 4/8/16.

Docket Numbers: ER16-715-001.

Applicants: DanMar Transmission, LLC.

Description: Tariff Amendment: Response to Request for Additional Information to be effective 3/13/2016.

Filed Date: 3/18/16.

Accession Number: 20160318-5051.

Comments Due: 5 p.m. ET 4/8/16.

Docket Numbers: ER16-1222-000.

Applicants: EnergyConnect, Inc.

Description: Tariff Cancellation: EnergyConnect, Inc. Cancellation to be effective 3/18/2016.

Filed Date: 3/17/16.

Accession Number: 20160317-5177.

Comments Due: 5 p.m. ET 4/7/16.

Docket Numbers: ER16-1223-000.

Applicants: Pacific Gas and Electric Company.

Description: Section 205(d) Rate Filing: Amendment to the San Joaquin Cogen GSFA (SA 130) to be effective 6/1/2016.

Filed Date: 3/18/16.

Accession Number: 20160318-5000.

Comments Due: 5 p.m. ET 4/8/16.

Docket Numbers: ER16-1224-000.

Applicants: FirstEnergy Solutions Corp.

Description: Request of FirstEnergy Solutions Corp. for Authorization to Make Wholesale Power Sales to Affiliated Utility, The Potomac Edison Company (2-1-16).

Filed Date: 3/17/16.

Accession Number: 20160317-5181.

Comments Due: 5 p.m. ET 4/7/16.

Docket Numbers: ER16-1225-000.

Applicants: Niagara Mohawk Power Corporation.

Description: Notice of Cancellation of Interconnection Agreement Service Agreement No. 919 of Niagara Mohawk Power Corporation.

Filed Date: 3/17/16.

Accession Number: 20160317-5200.

Comments Due: 5 p.m. ET 4/7/16.

Docket Numbers: ER16-1226-000.

Applicants: New Covert Generating Company, LLC.

Description: Section 205(d) Rate Filing: Reactive Tariff to be effective 6/1/2016.

Filed Date: 3/18/16.

Accession Number: 20160318-5028.

Comments Due: 5 p.m. ET 4/8/16.

Docket Numbers: ER16-1227-000.

Applicants: Southern California Edison Company.

Description: Section 205(d) Rate Filing: SGIA with North Lancaster Ranch LLC to be effective 3/19/2016.

Filed Date: 3/18/16.

Accession Number: 20160318-5044.

Comments Due: 5 p.m. ET 4/8/16.

Docket Numbers: ER16-1228-000.

Applicants: Virginia Electric and Power Company, PJM Interconnection, L.L.C.

Description: Section 205(d) Rate Filing: Virginia Electric and Power Company submits Mutual Operating Agreement No. 2032 to be effective 5/31/2016.

Filed Date: 3/18/16.

Accession Number: 20160318-5071.

Comments Due: 5 p.m. ET 4/8/16.

Docket Numbers: ER16-1229-000.

Applicants: PJM Interconnection, L.L.C., Trans-Allegheny Interstate Line Company.

Description: Section 205(d) Rate Filing: TrAILCo submits Original Service Agreement No. 4368 to be effective 3/19/2016.

Filed Date: 3/18/16.

Accession Number: 20160318-5073.

Comments Due: 5 p.m. ET 4/8/16.

Docket Numbers: ER16-1230-000.

Applicants: New York Independent System Operator, Inc., New York State Electric & Gas Corporation.

Description: Section 205(d) Rate Filing: Executed IA among NYISO, NYSEG and TrAILCO SA No. 2257 to be effective 3/19/2016.

Filed Date: 3/18/16.

Accession Number: 20160318-5084.

Comments Due: 5 p.m. ET 4/8/16.

Docket Numbers: ER16-1231-000.

Applicants: PacifiCorp.

Description: Section 205(d) Rate Filing: OATT Revised Attachment H-1 (Rev Depreciation Rates 2016) to be effective 6/1/2016.

Filed Date: 3/18/16.

Accession Number: 20160318-5099.

Comments Due: 5 p.m. ET 4/8/16.

Docket Numbers: ER16-1232-000.

Applicants: PJM Interconnection, L.L.C.

Description: Section 205(d) Rate Filing: Revisions to OATT Schedule 12 Appdx A- RTEP Approved by the PJM Board Feb 2016 to be effective 6/16/2016.

Filed Date: 3/18/16.

Accession Number: 20160318-5100.

Comments Due: 5 p.m. ET 4/8/16.

Take notice that the Commission received the following qualifying facility filings:

Docket Numbers: QF16-556-000.

Applicants: Adelphi University.

Description: Form 556 of Adelphi University.

Filed Date: 3/17/16.

Accession Number: 20160317-5105.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2016.
Nathaniel J. Davis, Sr.,
Deputy Secretary.

[FR Doc. 2016-06778 Filed 3-24-16; 8:45 am]

BILLING CODE 6717-01-P